FEDERAL COMMUNICATIONS COMMISSION

47 CFR Part 73

[DA 06-355; MB Docket No.04-280; RM-11037; RM-11117*]

Radio Broadcasting Service; Coupeville and Sequim, WA

AGENCY: Federal Communications Commission.

ACTION: Final rule.

SUMMARY: The Audio Division, at the request of Dana J. Puopolo, allots Channel 266A at Coupeville, Washington, as the community's first local service. See 69 FR 46474. In addition, the Audio Division allots Channel 237A at Sequim, Washington as an alternate channel to a counterproposal filed by Plan 9 Broadcasting for Channel 266A at Sequim. See Public Notice, Report No. 2683, RM-11117*. Channel 266A can be allotted to Coupeville in compliance with the Commission's minimum distance separation requirements at 48-18-00 North Latitude and 122-42-00 West Longitude with a site restriction of 9.5 (5.9 miles) north of Coupeville. Channel 237A can be allotted to Sequim in compliance with the Commission's minimum distance separation requirements at 48-07-12 North Latitude and 123-04-20 West Longitude with a site restriction of 4.9 (3.1 miles) northeast of Sequim. Canadian concurrence has been obtained for Channel 266A at Coupeville and 237A at Sequim. A filing window for these channels will not be opened at this time. Instead, the issue of opening a filing window for these channels will be addressed by the Commission in a subsequent order.

DATES: Effective April 3, 2006.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-280, adopted February 15, 2006, and released February 17, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Washington, is amended by adding Coupeville, Channel 266A and Sequim, Channel 237A.

Federal Communications Commission.
John A. Karousos,
Assistant Chief, Audio Division, Media Bureau.

[FR Doc. 06-2498 Filed 3-14-06; 8:45 am]

BILLING CODE 6712-01-P